SOCIAL SECURITY ADMINISTRATION

Statement of Organization, Functions and Delegations of Authority

This statement amends Part T of the Statement of Organization, Functions and Delegations of Authority that covers the Social Security Administration (SSA). Chapter TA covers the Deputy Commissioner for Disability and Income Security Programs. Notice is hereby given that Chapter TA, which covers the Office of the Deputy Commissioner, Disability and Income Security Programs, is being amended to reflect a reorganization. Notice is given that the following Subchapters are being deleted:

Subchapter TAE, The Office of Disability

Subchapter TAS, The Office of Program Support

Notice is further given that the following Subchapters are being established:

Subchapter TA, The Office of Disability Determinations

Subchapter TA, The Office of Disability Programs

Subchapter TA, The Office of Program Development and Research

Also, Subchapter (TAP), “The Office of Program Benefits” is being retitled as “The Office of Income Security Programs.” In addition, Subchapter (TAP), The Office of Program Benefits and Subchapter (TAT), the Office of Employment Support Programs are being amended to reflect the realignment and redistribution of functions resulting from the abolishment of the Office of Disability and the Office of Program Support and the establishment of the Office of Program Development and Research. The Office of Hearings and Appeals and the Office of International Programs are excluded from this reorganization. The new material and changes are as follows:

Section TA.00 The Office of the Deputy Commissioner, Disability and Income Security Programs—(Mission)

Add as the 4th sentence, line 10:

“The Office manages SSA's disability and SSI policy and research agendas and long-term disability initiatives.”

Delete the 10th sentence, line 21:

“Oversees the collection, use and dissemination of both personal and non-personal information to ensure consistency with Agency objectives, law and the expectations of the American public.”

Section TA.10 The Office of the Deputy Commissioner, Disability and Income Security Programs—(Organization)

Delete:

D. The Office of Disability (TAE).

H. The Office of Program Support (TAS).

Establish:

D. The Office of Disability Determinations ( ).

H. The Office of Disability Programs ( ).

J. The Office of Program Development and Research ( ).

Retitle:

G. “The Office of Program Benefits” to “The Office of Income Security Programs”

Section TA.20 Section (TA-20) The Office of the Deputy Commissioner, Disability and Income Security Programs—(Functions)

Amend C in its entirety to read as follows:

C. “The Immediate Office of the Deputy Commissioner, Disability and Income Security Programs provides the Deputy Commissioner with staff assistance on the full range of his/her responsibilities. The Immediate Office includes the Agency's Regulations Officer and establishes and maintains Agency standards for the development of regulations and rulings. Provides expert advice and support to the Deputy Commissioner and Assistant Deputy Commissioner on Agency-level projects and initiatives that impact the Agency's policymaking processes and the technology that supports them. Provides user support to all its subordinate components. Directs all systems activities supporting the Agency's electronic programmatic instructional system.”

Add:

D. The Office of Disability Determinations (TA ) provides operational standards, instructions, operational and procedural advice, technical support and management direction to central office, regional and field components and State agencies in support of the SSA-administered disability programs. Processes State agency workloads on a temporary or transitional basis and evaluates the impact of policy and procedural changes in State agency operations.

Retitle:

G. “The Office of Program Benefits” to “The Office of Income Security Programs”

Amend G in its entirety to read as follows:

G. “The Office of Income Security Programs provides SSA-wide leadership and direction to the development, coordination and promulgation of Retirement and Survivors Insurance (RSI) and Supplemental Security Income (SSI) policies and procedures. It develops, coordinates, evaluates and issues the policies, standards and instructions for the RSI and SSI programs. The Office develops agreements with the States and other agencies that govern State supplementation programs, Medicaid eligibility, data exchange programs, food stamps, fiscal reporting processes, and electronic computer matches. The Office of Income Security Programs is responsible for all aspects of SSA's policy process and the migration of RSI and SSI program services to the Internet.”

Add:

H. The Office of Disability Programs (TA) plans, develops, evaluates and issues the operational and administrative appeals process policies, standards and instructions for the SSA-administered disability programs. Develops and promulgates policies and guidelines for use by state, federal or private contractor providers which implement the disability provisions of the Social Security Act, as amended. Evaluates the effects of proposed legislation and legislation pending before Congress to determine the impact on the disability programs. Ensures that interrelated policy areas are coordinated.

I. The Office of Employment Support Programs (TAT)

Delete the 4th sentence, line 12:

“Evaluates the effects of proposed legislation, policy and regulatory changes to determine the operational impact on employment support programs.”

Add as the 4th sentence, line 12:

“Implements legislation related to employment support programs.”

Add:

J. The Office of Program Development and Research (TA) provides broad program analysis and development in support of the Disability Insurance (DI) and Supplemental Security Income (SSI) programs. Maintains awareness of issues concerning the broad program policy environment including Congress, the private sector and other government agencies, and ensures the Agency's policy and research agendas consider and reflect these points of view. Directs studies of program policy issues related to the development and evaluation of disability and SSI program initiatives and legislative and policy proposals. Identifies trends in the SSI and the disability programs and compiles and analyzes data on various aspects of those programs. Designs, implements and evaluates demonstration projects to target special populations and program issues. Formulates Agency policy regarding crosscutting programs or issues related to disability and/or income assistance programs and works with other agencies, including the Department of Health and Human Services, toward this end.

Add:

Subchapter (TA)

The Office of Disability Determinations

TA.00 Mission

TA.10 Organization

TA.20 Functions

Section (TA .00) The Office of Disability Determinations—(Mission)

The Office of Disability Determinations provides operational standards, instructions, operational and procedural advice, technical support, and management direction to central office, regional office and field components, and State agencies in support of the SSA-administered disability programs. Processes State agency workloads on a temporary or transitional basis and evaluates the impact of policy and procedural changes on State agency operations.

Section (TA .10) The Office of Disability Determinations—(Organization)

The Office of Disability Determinations under the leadership of the Associate Commissioner for Disability Determinations includes:

A. The Associate Commissioner for Disability Determinations (TA).

B. The Deputy Associate Commissioner for Disability Determinations (TA).

C. The Immediate Office of the Associate Commissioner for Disability Determinations (TA).

D. The Office of Federal Disability Determination Services (TA).

E. The Office of Field Disability Operations (TA).

F. The Office of Continuing Disability Reviews Support (TA).

Section (TA .20) The Office of Disability Determinations—(Functions)

A. The Associate Commissioner for Disability Determinations (TA) is directly responsible to the Deputy Commissioner, Disability and Income Security Programs for carrying out its mission and provides general supervision to its major components.

B. The Deputy Associate Commissioner for Disability Determinations (TA ) assists the Associate Commissioner in carrying out his/her responsibilities and performs other duties as the Associate Commissioner may prescribe.

C. The Immediate Office of the Associate Commissioner for Disability Determinations (TA) provides the Associate Commissioner and the Deputy Associate Commissioner with advisory services and staff assistance on the full range of their responsibilities and coordinates the administrative and program activities of its components.

D. The Office of Federal Disability Determination Services (TA):

1. The Office of Federal Disability Determination Services develops and adjudicates disability determinations either temporarily as help for one or more Disability Determination Services (DDS) or as a transition until a permanent alternative case processing operation is fully operational in the event that SSA must assume the disability determination function for a State because of noncompliance with regulations and guidelines, or voluntary withdrawal.

2. Pilot tests new work processes, procedures and systems prior to nationwide implementation; validates and conducts usability tests on new and/or revised systems processes; evaluates new or revised disability adjudication policies for national consistency and practical application; and conducts special studies and policy reviews required for management purposes.

3. Reviews and makes disability decisions on applications for disability under Title II and Title XVI of the Social Security Act on initial applications, on reconsideration requests and continuing disability.

4. Screens disability applicants for, and makes referrals to, vocational rehabilitation (VR) agencies, develops and evaluates medical/vocational evidence; and arranges for procurement and payment of such evidence, as required.

5. Reviews state hearing officer and federal hearing officer decisions; prepares decisions on foreign claims and revises hearing officers' determinations in accordance with the regulations at 20 CFR 404.918 and 20 CFR 416.1418; participates in hearing process studies; and prepares statistical and narrative reports and recommendations for training and policy and procedural changes based on case review and analysis or study findings.

6. In conjunction with the Office of Medical Policy and the Office of Disability Evaluation Policy, provides medical consultation required in the formulation of medical evaluation policies and guides. Conducts medical reviews of evidence for purposes of adjudication of medical aspects of claims, as part of an evaluation of the application of policies and procedures and/or as part of a study to develop new medical policies, guides and training.

E. The Office of Field Disability Operations (TA).

1. The Office of Field Disability Operations provides national guidance for the administrative aspects of the disability determination function whether administered through State DDSs, contracted out to the private sector or accomplished by designated SSA organizational components.

2. Develops pertinent policies, regulations and procedures related to DDS performance by establishing standards and guides for performance; monitoring performance, initiating corrective action where needed, coordinating workloads and administering the funds for the DDSs, etc. Conducts such studies and reviews as are necessary to the disability determination function.

3. Plans, coordinates and manages the systems-related activities including DDS and Federal Disability Determination Services automation, information resource management, expert systems, development of user specifications, and installation and testing of hardware, networks and communications links for DDSs.

4. Analyzes, plans, distributes and monitors all DDS funding on a state-by-state basis; this includes establishing and monitoring workload and productivity targets for each DDS.

F. The Office of Continuing Disability Reviews Support (TA).

The Office of Continuing Disability Reviews Support develops guidelines and technical procedures for the continuing disability review (CDR) process and oversees this process. Estimates the number of CDRs that must be processed on an annual basis for SSA to be current in its review responsibilities.

Develops and implements processing strategies based on the currency estimates. The processing strategies include establishing the schedules and processes for CDRs directly released as full medical reviews and those released as mailers to determine if a full medical review is required. Coordinates with all appropriate operational components.

1. Applies sophisticated profiling methodology to “score” every SSDI and SSI beneficiary on the rolls for potential CDRs.

2. On an ongoing annual basis, selects individuals for a CDR medical review or mailer.

3. Designs and maintains databases and extracts in support of the continuing disability review process.

4. Tracks and reports on all medical CDRs and mailers to ensure yearly currency and to meet the requirement for yearly reports to Congress.

5. Conducts yearly integrity checks of the CDR mailer process for Title II and Title XVI.

Add:

Subchapter (TA)

The Office of Disability Programs

TA .00 Mission

TA .10 Organization

TA .20 Functions

Section (TA .00) The Office of Disability Programs—(Mission)

The Office of Disability Programs plans, develops, evaluates and issues the operational and administrative appeals process policies, standards and instructions for the SSA administered disability programs. Develops and promulgates policies and guidelines for use by State, Federal or private contractor providers which implement the disability provisions of the Social Security Act as amended. Evaluates the effects of proposed legislation and legislation pending before Congress to determine the impact on the disability programs. Ensures that interrelated policy areas are coordinated.

Section (TA .10) The Office of Disability Programs—(Organization)

The Office of Disability Programs under the leadership of the Associate Commissioner for Disability Programs, includes:

A. The Associate Commissioner for Disability Programs (TA).

B. The Deputy Associate Commissioner for Disability Programs (TA).

C. The Immediate Office of the Associate Commissioner for Disability Programs (TA).

D. The Office of Medical Policy (TA).

E. The Office of Disability Evaluation Policy (TA).

F. The Office of Process Policy (TA).

G. The Office of Disability Program Information and Studies (TA).

H. The Office of Acquiescence and Litigation Coordination (TA).

Section (TA .20) The Office of Disability Programs—(Functions):

A. The Associate Commissioner for Disability Programs (TA ) is directly responsible to the Deputy Commissioner, Disability and Income Security Programs for carrying out its mission and providing general supervision to its major components.

B. The Deputy Associate Commissioner(s) for Disability Programs (TA ) assists the Associate Commissioner in carrying out his/her responsibilities and performs other duties as the Associate Commissioner may prescribe.

C. The Immediate Office of the Associate Commissioner for Disability Programs (TA) provides the Associate Commissioner and the Deputy Associate Commissioner(s) with advisory services and staff assistance on the full range of their responsibilities and coordinates the administrative and program activities of ODP components. Other duties include:

1. Development, coordination and oversight of disability policies, procedures and process requirements supporting creation of a paperless disability claims process; and

2. Development and oversight of a policy framework supporting consistent application of disability program policy through all levels of disability adjudication and the quality assurance process.

D. The Office of Medical Policy (TA)

1. The Office of Medical Policy develops broad medical concepts and policies for the administration of the Title II and Title XVI programs.

2. Develops studies and research evaluating impairment severity and other medical disability issues.

3. Provides leadership and professional direction to Regional Medical Officers and consultants, and to state Disability Determination Services medical personnel engaged in Title II and Title XVI disability program-related activities.

4. Provides medical consultation required in the formulation of medical evaluation policies and guides and develops orientation and training program for all adjudicative personnel in SSA, including state Disability Determination Services.

5. Develops, evaluates, implements and maintains disability program policy for all medical issues, both adults and children, including evaluation policies for all body systems, standards for evaluating medical evidence, the Psychiatric Review Technique, impairment duration, medical diaries and presumptive disability/blindness criteria, to be used in deciding disability claims at all adjudicative levels.

6. Provides medical policy consultation for individual court cases and class actions ensuring that policies and procedures reflect specific court orders and legal precedents.

E. The Office of Disability Evaluation Policy (TA)

1. The Office of Disability Evaluation Policy develops broad vocational and other non-medical concepts and policies for the administration of the Title II and Title XVI disability programs.

2. Develops studies and research evaluating vocational and other non-medical disability issues.

3. Provides leadership and professional direction to regional and State Disability Determination Services personnel engaged in Title II and Title XVI-related activities.

4. Develops orientation and training programs in the vocational and other non-medical areas for all adjudicative personnel in SSA, including State Disability Determination Services.

5. Develops, evaluates, implements and maintains disability program policy for all vocational and other non-medical issues, both adults and children, including age, education, work experience, vocational rules, vocational data and reference materials (e.g., Dictionary of Occupational Titles), work evaluations, disability onset, disability standards, credibility, claimant responsibility, evidence development and evaluation, medical source opinions, residual functional capacity, interview and function forms, medical improvement review standards and Title XVI childhood policy (including functional equivalence, evidence development, age 18 redeterminations, and other issues) to be used at all adjudicative levels.

6. Provides vocational and other non-medical policy consultation for individual court cases and class actions ensuring that policies and procedures reflect specific court orders and legal precedent.

F. The Office of Process Policy (TA)

1. The Office of Process Policy develops procedures and instructions for the disability provisions of other programs including certain Titles XVI and XVIII provisions unique to the disability programs. Maintains the integrity of the consultative examination process by developing regulations and conducting oversight activities.

2. Develops the procedures and instructions that define the administrative appeals process, including policies and procedures for the disability hearing process. Develops notice policy and issues language and forms for use in disability claims and notices including foreign language and Braille notices.

3. Carries out professional relation efforts in support of SSA's efforts to gain support from professional medical associations. Maintains liaison and assists with professional relations efforts to gain the support of non-vocational rehabilitation advocacy groups, federal, state and local agencies and the public and provides guidance and assistance on disability professional relations issues to the SSA regional and DDS field networks.

G. Office of Disability Program Information and Studies (TA)

1. The Office of Disability Program Information and Studies conducts studies on the disabled population and recipients relative to specific operational/administrative program issues.

2. Develops and maintains databases for statistical activities and program information. Provides recurring and specialized reports and coordinates information requirements.

H. Office of Acquiescence and Litigation Coordination (TA)

1. Develops, evaluates, maintains and implements acquiescence regulations and policies. Evaluates all circuit court decisions to assess the need to publish an Acquiescence Ruling.

2. Coordinates litigation activities with respect to class action lawsuits and significant individual cases for all programmatic policy areas.

3. Provides recommendations for policy, regulatory and/or legislative changes to remedy weaknesses identified as a result of litigation. Maintains the Civil Action Tracking System used to monitor activities related to class action lawsuits and acquiescence.

Revise and Retitle:

Subchapter (TAP)

Office of Income Security Programs

TAP.00 Mission

TAP.10 Organization

TAP.20 Functions

Retitle:

Section TAP.00 “The Office of Program Benefits” to “The Office of Income Security Programs”—(Mission)

Amend in its entirety:

“The Office of Income Security Programs provides SSA-wide leadership and direction to the development, coordination and promulgation of Retirement and Survivors Insurance (RSI) and Supplemental Security Income (SSI) policies and procedures. Develops, coordinates, evaluates and issues the policies, standards and instructions for the RSI and SSI programs. Develops agreements with the States and other agencies that govern State supplementation programs, Medicaid eligibility, data exchange programs, food stamps, fiscal reporting processes, electronic computer matches. Is responsible for all aspects of SSA's policy process and the migration of RSI and SSI program services to the Internet.”

Retitle:

Section (TAP.10) The Office of Program Benefits” to “The Office of Income Security Programs”—(Organization)

The Office of Income Security Programs under the leadership of the Associate Commissioner for Income Security Programs includes:

Retitle:

D. “The Division of Coverage and Support” to “The Office of Earnings and Information Exchange (TAPB)”.

E. “The Division of Eligibility and Enumeration Policy” to “The Office of Eligibility and Enumeration Policy” (TAPJ).

F. “The Division of Representative Payment and Evaluations” to “The Office of Beneficiary Determinations and Services (TAPK).

G. “The Division of Payment Policy” to the “Office of Payment Policy (TAPE)”.

Add:

H. The Office of Technology and Services Policy (TAPF).

Retitle:

Section (TAP.20) The Office of Program Benefits” to “The Office of Income Security Programs”—(Functions)

Retitle:

D. “The Division of Coverage and Support” to “The Office of Earnings and Information Exchange (TAPB)”.

Amend D in its entirety:

1. “Plans, develops and evaluates the policies, standards and instructions, and provides guidance to field components on issues related to the RSI program, in the areas of coverage earnings records and corrections, and pre-1987 State and local reporting and corrections. Also establishes policy, provides guidance and manages the implementation of the provisions of the Computer Matching and Privacy Protection Act of 1988.

2. Develops and issues guidelines, directives, instructions and procedures for such subject areas as wages, coverage and exceptions, earnings records and earnings records corrections and discrepancies, self-employment status and income, religious exemptions (including determinations as to whether sects meet legal requirements for exemptions to apply), State and local coverage, statutes of limitations, State and local agreements, SSA benefit statements, and territory agreements. Coordinates SSA's interaction with other agencies in negotiating data releases and exchanges and negotiates with these agencies at all levels regarding electronic data sharing and direct terminal access to computer records.

Retitle:

E. The “Division of Eligibility and Enumeration Policy” to “The Office of Eligibility and Enumeration Policy” (TAPJ)

Amend E in its entirety:

1. “Plans, develops and evaluates the policies, standards and instructions and provides guidance to field components on issues related to the RSI and SSI programs in the areas of applications, eligibility and enumeration.

2. Develops and issues guidelines, directives, instructions and procedures for such eligibility and enumeration subject areas as assignment of social security numbers and issuance of cards, non-citizen issues, evidentiary standards, liaison with Immigration and Naturalization Services, insured status, applications for benefits and SSNs, adjudication, claims development, relationships, and inter-program relationships with food stamps.”

Retitle:

F. “The Division of Representative Payment and Evaluations” to “The Office of Beneficiary Determinations and Services (TAPK)”.

Amend F in its entirety:

1. “Plans, develops and evaluates the policies, standards and instructions and provides guidance to field components on issues related to the RSI and SSI programs in the areas of representative payment, outreach, deeming, income, resources, in-kind support and maintenance, institutions and living arrangements.

2. Develops and issues guidelines, directives, instructions and procedures for such representative payment subject areas as (in)capability assessment, investigation and selection of payees, use and conservation of benefits, misuse of benefits, payment for payee services and payee oversight, inter-program relationship with Medicaid and Medicare, deeming, income, resources, in-kind support and maintenance, institutions and living arrangements.”

Retitle:

G. “The Division of Payment Policy” to “The Office of Payment Policy (TAPE)”.

Amend G in its entirety:

1. “Plans, develops and evaluates the policies, standards and instructions and provides guidance to field components on issues related to the RSI and SSI programs in the areas of compliance and payment policy.

2. Develops and issues guidelines, directives, instructions and procedures for such payment policy subject areas as payment accuracy, notices, redeterminations, reporting, change of address, computations, offset, overpayments and underpayments, suspensions and terminations, garnishments, administrative finality, res judicata, due process, IRS levies, appeals, retirement earnings test and Agency notice improvement activities.”

Add:

H. The Office of Technology and Services Policy (TAPL)

1. Directs the management of all activities supporting production, publication, distribution, indexing and storage of SSA's program operational instructions system (both electronic and hardcopy), programmatic-related documents. Facilitates the migration of RSI and SSI program services to the Internet and to other electronic mediums that enable the public to interact with SSA electronically by developing a foundation for Internet program policy expertise that ensures uniformity and consistency of Internet applications and resources.

2. Oversees SSA's policy process including establishing and maintaining Agency standards for the development of program instructions. Directs the ongoing evaluation and improvement of SSA's policy process and solicits external stakeholder input to the policy process and assists authoring components in developing policy documents. Directs technical research into improved methods of delivering complex policy knowledge and oversees maintenance of SSA's technical documents including the Compilation of the Social Security Act. Directs change management initiatives aimed at achieving more efficient and effective policy-related processes and assists the organization and individual employees in the transition to new work environments. Identifies crosscutting program and authentication issues when implementing Internet applications and recommends changes to meet both program and client needs. Develops and issues guidelines, directives, instructions, and procedures to field components on Internet and electronic services activities.

Revise:

Subchapter (TAT)

The Office of Employment Support Programs

TAT.00 Mission

TAT.10 Organization

TAT.20 Functions

Section (TAT.00) The Office of Employment Support Programs—(Mission)

Delete the 4th sentence, which reads: “Evaluates the effects of proposed legislation, policy, and regulatory changes to determine the operational impact on employment support programs.”

Add as the 4th sentence: “Implements legislation and analyzes the effects of policy and regulatory changes to determine the operational impact on employment support programs”.

Section (TAT.10) The Office of Employment Support Programs—(Organization)

Retitle:

D. “The Division of Employment Policy” to “The Office of Employment Policy (TATB)”.

E. “The Division of Employment Support and Program Acquisitions” to “The Office of Employment Support and Program Acquisitions (TATC)”.

Section TAT.20 The Office of Employment Support Programs— (Functions)

Retitle:

D. “The Division of Employment Policy” to “The Office of Employment Policy (TATB)”.

Delete: the first two words in paragraph #1, “develops, evaluates...”

Add: at the end of paragraph #4, “and operational activities.”

Retitle:

E. “The Division of Employment Support and Program Acquisitions” to “The Office of Employment Support and Program Acquisitions (TATC)”.

Amend E in its entirety:

1. “Implements the provisions of the Social Security Act which facilitate access to rehabilitation and other forms of employment support services through the Ticket to Work and Self-Sufficiency Program.

2. Evaluates the performance of service providers in the public and private sectors. Certifies payment to service providers and ensures that beneficiary participation in the program is appropriate.

3. Develops, implements, evaluates and maintains regulations, program operating policies, and instructional and other materials on employment services and service provider operations. Interfaces with the vocational rehabilitation programs administered under the Rehabilitation Act. Develops proposals and plans for new employment support services and other related program changes.”

Add:

Subchapter (TA )

The Office of Program Development and Research

TA .00 Mission

TA .10 Organization

TA .20 Functions

Section (TA .00) The Office of Program Development and Research—(Mission)

The Office of Program Development and Research provides broad program analysis and development in support of the Disability and Supplemental Security Income (SSI) programs. The Office maintains awareness of issues concerning the broad program policy environment including Congress, the private sector and other government agencies, and ensures the Agency's policy and research agendas consider and reflect these points of view. Directs studies of program policy issues related to the development and evaluation of disability and the SSI program initiatives and legislative and policy proposals. The Office identifies trends in the SSI and the disability programs and compiles and analyzes data on various aspects of those programs. Designs, implements and evaluates demonstration projects to target special populations and program issues. Formulates Agency policy regarding crosscutting programs or issues related to disability and/or income assistance programs and works with other agencies, including the Department of Health and Human Services, toward this end.

Section (TA .10) The Office of Program Development and Research—(Organization)

The Office of Program Development and Research under the leadership of the Associate Commissioner for Program Development and Research, includes:

A. The Associate Commissioner for Program Development and Research (TA).

B. The Deputy Associate Commissioner for Program Development and Research (TA).

C. The Immediate Office of the Associate Commissioner for Program Development and Research (TA).

D. The Office of Program Development (TA).

E. The Office of Program Evaluation (TA).

F. The Office of Data Analysis (TA).

G. The Office of Program Research (TA).

Section (TA .20) The Office of Program Development and Research—(Functions)

A. The Associate Commissioner for Program Development and Research (TA) is directly responsible to the Deputy Commissioner, Disability and Income Security Programs for carrying out the mission of the office and providing general supervision to its major components.

B. The Deputy Associate Commissioner for Program Development and Research (TA) assists the Associate Commissioner in carrying out his/her responsibilities and performs other duties as the Associate Commissioner may prescribe.

C. The Immediate Office of the Associate Commissioner for Program Development and Research (TA) provides the Associate Commissioner and the Deputy Associate Commissioner with advisory services and staff assistance on the full range of their responsibilities and coordinates the administrative and program activities of OPDR components.

D. The Office of Program Development (TA).

1. Develops and implements disability and SSI-related demonstration projects including projects that would encourage work and self-sufficiency.

2. Administers grants, interagency agreements, contracts and unsolicited proposals for ODISP.

3. Conducts outreach for demonstration projects and other initiatives relevant to program development.

E. The Office of Program Evaluation (TA).

1. Maintains awareness of issues concerning the broad program policy environment including Congress, the private sector and other government agencies, and ensures the Agency's policy and research agendas consider and reflect these points of view.

2. Formulates Agency policy regarding cross-cutting programs or issues related to disability and/or income assistance programs and works with other agencies, including the Department of Health and Human Services, toward this end.

3. Formulates Agency policy regarding crosscutting programs or issues related to disability and/or income assistance programs and works with other agencies, including the Department of Health and Human Services, toward this end.

4. Conducts analyses of international disability and income assistance programs.

F. The Office of Data Analysis (TA).

1. Identifies trends in disability programs and emerging issues and policy implications.

2. Compiles and analyzes data on various aspects of the SSDI and SSI disability programs, including such areas as SSI children, demonstration projects, denied applicants and work incentives.

G. The Office of Program Research (TA).

1. Identifies and develops potential research projects that will support future policy initiatives.

2. Reviews current research and determines SSDI/SSI disability policy implications.

3. Conducts studies and analyses on the national disabled population, applicants for benefits, disability beneficiaries, work incentives and disability assessment tools.

4. Conducts analyses of the interrelationships between SSA's disability programs, the national economy and other income maintenance programs, as well as various socioeconomic factors.

Dated: November 4, 2002.
Jo Anne B. Barnhart,
Commissioner.

[FR Doc. 02-28956 Filed 11-14-02; 8:45 am]

BILLING CODE 4191-02-P